ENVIRONMENTAL PROTECTION AGENCY

[FRL-7941-8]

Regulatory Pilot Projects (Project XL); Correction

AGENCY: Environmental Protection Agency.

ACTION: Notice; correction.

SUMMARY: The Environmental Protection Agency published a document in the Federal Register of June 8, 2005 concerning request for comments on Regulatory Pilot Projects. Within the document are several citations of an erroneous Agency form number.

FOR FURTHER INFORMATION CONTACT: Doug Heimlich, (202) 566-2234.

Correction

In the Federal Register of June 8, 2005, in 70 FR Doc. 05-11383, on page 33472, in the third column, replace all citations of “EPA ICR No. 1755.06” with the following:

EPA ICR No. 1755.07.

Dated: June 14, 2005.
Gerald J. Filbin,
Director, Innovative Pilots Division, Office of Policy, Economics and Innovation.

[FR Doc. 05-14398 Filed 7-20-05; 8:45 am]

BILLING CODE 6560-50-P